JUDICIAL CONFERENCE OF THE UNITED STATES

Committee on Rules of Practice and Procedure; Meeting of the Judicial Conference

AGENCY: Committee on Rules of Practice and Procedure, Judicial Conference of the United States.

ACTION: Notice of open meeting.

SUMMARY: The Committee on Rules of Practice and Procedure will hold a virtual meeting on January 5, 2021. The meeting is open to the public. When a meeting is held virtually, members of the public may join by telephone conference to listen but not participate. An agenda and supporting materials will be posted at least 7 days in advance of the meeting at: http://www.uscourts.gov/rules-policies/records-and-archives-rules-committees/agenda-books.

DATES: January 5, 2021, TIME: 10 a.m.-5 p.m. (Eastern).

FOR FURTHER INFORMATION CONTACT: Rebecca A. Womeldorf, Secretary, Committee on Rules of Practice and Procedure of the Judicial Conference of the United States, Thurgood Marshall Federal Judiciary Building, One Columbus Circle, NE, Suite 7-300, Washington, DC 20544, Telephone (202) 502-1820, RulesCommittee_Secretary@ao.uscourts.gov.

Authority: 28 U.S.C. 2073.

Dated: October 5, 2020.
Shelly L. Cox,
Management Analyst, Rules Committee Staff.

[FR Doc. 2020-22326 Filed 10-7-20; 8:45 am]

BILLING CODE 2210-55-P